DEPARTMENT OF TRANSPORTATION

Federal Transit Administration

Solicitation of Nominations for Members of the Transit Rail Advisory Committee for Safety

AGENCY: Federal Transit Administration, DOT.

ACTION: Notice to solicit nominees.

SUMMARY: The Federal Transit Administration (FTA) is seeking nominations for individuals to serve on the Transit Rail Advisory Committee for Safety (TRACS). The Advisory Committee meets at least twice a year to advise FTA on transit safety issues. The recommendations of the TRACS will help FTA develop new policies, practices, and regulations for enhancing safety in rail transit should FTA be given authority to promulgate new transit safety requirements.

DATES: Applications must be submitted no later than February 26, 2010.

FOR FURTHER INFORMATION CONTACT: Mike Flanigon, Director, Office of Safety and Security, Federal Transit Administration, 202-366-0235 or Mike.Flanigon@dot.gov. Applications should be submitted to TRACS@dot.gov or mailed to the Federal Transit Administration, Office of Safety and Security, Room E46-338, 1200 New Jersey Ave., SE., Washington, DC 20590.

SUPPLEMENTARY INFORMATION:

I. Background

Nationwide, rail transit is considered one of the safest modes of transportation with more than seven million people boarding rail transit vehicles in the United States each day. Transit systems have fewer fatalities and injuries than does any other mode of transportation. Even so, major accidents in Chicago, Washington, DC, San Francisco, and Boston have captured the attention of the public and raised widespread concern regarding the industry's commitment to the safety of its passengers and employees. For example, the 2006 derailment of a CTA Blue Line train in Chicago involved aging infrastructure that did not meet agency safety standards and yet remained in service.

In response to this series of accidents, the Secretary of Transportation established TRACS for the purpose of providing a forum for the development, consideration, and communication of information from knowledgeable and independent perspectives regarding transit rail safety. The committee is chartered under the Federal Advisory Committee Act (5 U.S.C. App. 2) and became effective on December 8, 2009.

In addition, the Secretary of Transportation transmitted to Congress in December proposed legislation outlining comprehensive transit safety reforms. While Congress debates this important piece of legislation, the Department has decided to move forward with the selection process for the TRACS. The Department acknowledges that FTA cannot promulgate final regulations without new safety legislation, but given the urgent need for reform in this area, convening affected parties now will only help strengthen FTA's decision-making process later.

TRACS will be composed of no more than 25 voting members representing key constituencies affected by rail transit safety requirements. These key constituencies will include, but are not limited to: rail safety experts, labor unions, transit agencies, rider advocacy groups, State safety oversight agencies, and industry associations. Members are recommended for appointment by the FTA Administrator and appointed by and serve at the pleasure of the Secretary of Transportation. Terms of office will normally be two years, and members' terms of office will be staggered to assure adequate continuity of TRACS membership. Therefore, at least initially, some members may be appointed under this announcement to a one-year term of office.

Qualified individuals interested in serving on this committee are invited to apply to FTA for appointment. Nominations are sought from highly qualified individuals and should possess demonstrable expertise in the field of safety and/or rail transit operations/maintenance or represent stakeholder interests that would be affected by rail transit safety requirements. Nominees will also be evaluated based on the following factors: policy experience, leadership and organizational skills, region of country represented, and diversity characteristics. Each nomination should include: proposed committee member's name and organizational affiliation, a cover letter describing the nominee's qualifications or interest in serving on the committee, a curriculum vitae or resume of the nominee's qualifications, and whether the nominee would like to be considered for a one year or two year term. Self-nominations are acceptable and each submission should include the following contact information: nominee's name, address, phone number, fax number, and e-mail address. FTA prefers electronic submission for all applications to TRACS@dot.gov. Applications will also be accepted via U.S. mail at the address identified in the FOR FURTHER INFORMATION CONTACT section of this notice. All applications must be submitted by February 26, 2010. Finally, in furtherance of the President's efforts to reduce the influence of special interests in Washington, we are interested in keeping TRACS free of individuals who currently are registered Federal lobbyists.

The TRACS will meet approximately twice a year, usually in Washington, DC, but may meet more often if the need arises. Members serve at their own expense and receive no salary, or other compensation from the Federal Government. FTA retains authority to review the participation of any TRACS member and to recommend changes at any time. TRACS meetings will be open to the public and one need not be a member to attend. Interested individuals may view the charter for TRACS at http://fta.dot.gov. The Secretary of Transportation expects to make final decisions regarding committee membership by April 30, 2010.

Issued this 27th day of January 2010 in Washington, DC.
Peter Rogoff,
Administrator.

[FR Doc. 2010-2011 Filed 1-29-10; 8:45 am]

BILLING CODE P